DEPARTMENT OF COMMERCE

National Institute of Standards and Technology

National Conference on Weights and Measures 101st Annual Meeting

AGENCY: National Institute of Standards and Technology, Commerce.

ACTION: Notice.

SUMMARY: The 101st Annual Meeting of the National Conference on Weights and Measures (NCWM) will be held in Denver, Colorado, from Sunday, July 24, 2016, through Thursday, July 28, 2016. This notice contains information about significant items on the NCWM Committee agendas but does not include all agenda items. As a result, the items are not consecutively numbered.

DATES: The meeting will be held on Sunday, July 24, 2016, through Wednesday, July 27, 2016, from 8:00 a.m. to 5:00 p.m. Mountain Time, and on Thursday, July 28, 2016 from 9:00 a.m. to 12:00 p.m. Mountain Time. The meeting schedule is available at www.ncwm.net.

ADDRESSES: This meeting will be held at the Grand Hyatt Denver, 1750 Welton Street, Denver, Colorado 80202-3999.

FOR FURTHER INFORMATION CONTACT: Mr. Kenneth Butcher, NIST, Office of Weights and Measures, 100 Bureau Drive, Stop 2600, Gaithersburg, MD 20899-2600. You may also contact Mr. Butcher at (301) 975-4859 or by email at kenneth.butcher@nist.gov. The meeting is open to the public, but a paid registration is required. Please see the NCWM Web site (www.ncwm.net) to view the meeting agendas, registration forms, and hotel reservation information.

SUPPLEMENTARY INFORMATION: Publication of this notice on the NCWM's behalf is undertaken as a public service; NIST does not endorse, approve, or recommend any of the proposals or other information contained in this notice or in publications produced by the NCWM.

The NCWM is an organization of weights and measures officials of the states, counties, and cities of the United States, and representatives from the private sector and federal agencies. These meetings bring together government officials and representatives of business, industry, trade associations, and consumer organizations on subjects related to the field of weights and measures technology, administration, and enforcement. NIST participates to encourage cooperation between federal agencies and the states in the development of legal metrology requirements. NIST also promotes uniformity state laws, regulations, and testing procedures used in the regulatory control of commercial weighing and measuring devices, packaged goods, and for other trade and commerce issues.

The following are brief descriptions of some of the significant agenda items that will be considered at the NCWM Annual Meeting. Comments will be taken on these and other issues during public comment sessions. This meeting also includes work sessions in which the Committees may also accept comments, and where they will finalize recommendations for possible adoption at this meeting. The Committees may also withdraw or carryover items that need additional development.

These notices are intended to make interested parties aware of these development projects and to make them aware that reports on the status of the project will be given at the Annual Meeting. The notices are also presented to invite the participation of manufacturers, experts, consumers, users, and others who may be interested in these efforts.

The Specifications and Tolerances Committee (S&T Committee) will consider proposed amendments to NIST Handbook 44, “Specifications, Tolerances, and other Technical Requirements for Weighing and Measuring Devices.” Those items address weighing and measuring devices used in commercial applications, that is, devices used to buy from or sell to the public or used for determining the quantity of products or services sold among businesses. Issues on the agenda of the NCWM Laws and Regulations Committee (L&R Committee) relate to proposals to amend NIST Handbook 130, “Uniform Laws and Regulations in the area of Legal Metrology and Engine Fuel Quality” and NIST Handbook 133, “Checking the Net Contents of Packaged Goods.”

NCWM S&T Committee

The following items are proposals to amend NIST Handbook 44:

Automatic Bulk Weighing Systems

Item 322-2 N.1. Testing Procedures. and T. Tolerances

The current testing procedures specified in the Automatic Bulk Weighing Systems (ABWS) Code are intended to be performed statically using field standard test weights or a combination of test weights and material substituted for test weights. Nowhere within the ABWS Code is it mentioned that a material test should be performed with the system in normal operational mode using material of known quantity as a reference standard. At the January 2016 NCWM Interim Meeting, the S&T Committee agreed to present for vote, at the upcoming Meeting, a proposal that makes optional (i.e., at the discretion of the official performing the test) a material test. The intent of this additional test is to allow the official to determine the accuracy of the device under actual operating conditions.

Weigh-In-Motion Systems Used for Vehicle Enforcement Screening

Item 325-1 Section A. Application and Other Sections Throughout the Code To Address Commercial and Law Enforcement Applications

In February 2016, the NCWM formed a new task group to consider a proposal to expand the tentative code for Weigh-In-Motion Systems Used for Vehicle Enforcement Screening in NIST Handbook 44 to include commercial and law enforcement applications. This proposed amendment is a “Developing Item” on the S&T Committee's 2016 agenda and will not be voted on at this meeting.

The purpose of this notice is to make users and other stakeholders aware of the proposal to expand the scope of the existing code and the formation of the task group. The task group includes representatives of equipment manufacturers, the U.S. Department of Transportation Federal Highway Administration, truck weight enforcement agencies, state weights and measures offices, and others. For more information on this task group contact Mr. Richard Harshman, NIST Technical Advisor at (301) 975-8107 or richard.harshaman@nist.gov.

LPG and Anhydrous Ammonia Liquid-Measuring Devices

Item 332-2 S.1.4.3. Provisions for Power Lost, S1.5.1.1. Unit Price, S.1.5.1.2. Product Identity, S.1.6. for Retail Motor Vehicle Fuel Devices Only, S.1.7. for Wholesale Devices Only, U.R. 2.7. Unit Price and Product Identity, and UR.2.8. Computing Device

Retail motor-fuel dispensers used to dispense refined fuels such as gasoline and diesel are regulated under the Liquid-Measuring Devices (LMD) Code in NIST Handbook 44. The LMD Code has been repeatedly revised over the past 20 years to reflect changes in technology and marketing practices surrounding the sale of these fuels; however, corresponding changes have not always been made to the LPG and Ammonia Liquid-Measuring Devices code. The proposed changes under this item are designed to align the LPG and Ammonia Liquid-Measuring Devices code with the LMD code and help promote uniformity in device requirements and practices and ensure fair competition between competing businesses.

Mass Flow Meters

Item 337-2 Appendix D—Definitions: Diesel Liter and Diesel Gallon Equivalents of Natural Gas

In 1994 both liter and gallon “equivalents” for gasoline were established by the NCWM to provide a means for consumers to make value and fuel economy comparisons between compressed natural gas (CNG) and gasoline, and to promote broader acceptance and use of CNG as a vehicle fuel. These “equivalents” are based on a specific weight (mass) per volume, called the gasoline liter equivalent (GLE) and gasoline gallon equivalent (GGE), and are calculated using an estimate of the “average” equivalent energy content—a number provided by industry. For several years, the NCWM Specifications and Tolerances (S&T) and Laws and Regulations (L&R) Committees have deliberated on proposals to establish and/or revise requirements for the method of sale and commercial measurement of LNG and CNG. The purpose of this item is to define acceptable units of measurement and identify requirements for equipment used to commercially measure these products.

Also L&R Items 232-8, NIST Handbook 130, Method of Sale Regulations and Item 237-1, NIST Handbook 130, Uniform Engine Fuels and Automotive Lubricants Regulation are similar proposals being considered on this issue.

Hydrogen Gas-Metering Devices

Item 339-2 Table T.2. Accuracy Classes and Tolerances for Hydrogen Gas-Measuring Devices

The NIST Handbook 44, Hydrogen-Gas Measuring Devices code was added to NIST Handbook 44 in 2010 as a “Tentative Code.” As is often the case with a tentative code, it is expected that adjustments will need to be made to the code prior to changing its status to “permanent” as experience is gained by industry and regulatory offices on the operation, testing, and use of the devices covered by that code.

The tolerances currently specified in the NIST Handbook 44, Hydrogen-Gas Measuring Devices code are ± 1.5% for Acceptance Tolerance and ± 2.0% for Maintenance Tolerance. According to the submitter of this proposal, no hydrogen-gas dispenser manufacturers can meet the tolerances currently specified in the tentative code. This item proposes establishing multiple accuracy classes in which Acceptance Tolerances would range from ± 1.5% to ± 5.0% and Maintenance Tolerances would range from ± 2.0% to ± 10.0%. The proposal places limits on the installation of certain accuracy classes after specified dates. After January 1, 2020, newly installed devices will be required to meet the current, more stringent tolerances; however, larger tolerances may continue to apply to devices installed prior to that date. This proposal would also permit devices of different accuracies to be used in the same application.

Taximeters

Item 354-5 U.S. National Work Group on Taximeters (USNWG)—Taximeter Code Revisions and Global Positioning System (GPS)-Based Systems for Time and Distance Measurement and

Item 354-6 Transportation Network Systems—Draft Code

For several years, the NIST USNWG on Taximeters has discussed possible approaches for amending the NIST Handbook 44, Taximeters Code to specifically recognize GPS-based time and distance measuring systems that are used to assess charges for transportation services such as taxicabs and limousines. Appropriate specifications, tolerances, and other technical requirements for these devices must be developed for manufacturers and users of these devices, as well for weights and measures officials. Such requirements help ensure accuracy and transparency for customers and a level playing field for transportation service companies, enabling consumers to make value comparisons between competing services. In the fall of 2015, the California Division of Measurement Standards submitted a proposal through multiple regional weights and measures associations to establish a separate NIST Handbook 44 code to address “Transportation Network Services.” The S&T Committee will examine these proposals and the result of recent discussions from a November 2015 USNWG meeting to assess how to best address these systems.

NCWM L&R Committee

The following items are proposals to amend NIST Handbook 130 or NIST Handbook 133:

NIST Handbook 130—Section on Uniform Regulation for the Method of Sale of Commodities

Item 232-7 2.23. Animal Bedding

The L&R Committee will consider a proposal to recommend adoption of a uniform method of sale for animal bedding that will enhance the ability of consumers to make value comparisons and will ensure fair competition. Animal Bedding is generally defined as any material, except for baled straw, that is kept, offered or exposed for sale or sold to retail consumers for primary use as a medium for any pet or companion or livestock animal to nest or eliminate waste. If adopted, the proposal will require packers to advertise and sell packages of animal bedding on the basis of the expanded volume of the bedding. Most packages of animal bedding are compressed during packaging and the expanded volume is the amount of product that consumers will recover through unwrapping and decompressing the bedding according to the instructions provided by the packer. See also Item 260-5, Section 3.15. Test Procedure for Verifying the Usable Volume Declaration on Packages of Animal Bedding.

NIST Handbook 133—Chapter 3

Item 260-3 Section 3.14. Firewood—(Volumetric Test Procedures for Packaged Firewood With a Labeled Volume of 113 L [4 ft ³] or Less)

The current test procedure in NIST Handbook 133, Section 3.14., Firewood—(Volumetric Test Procedure for Packaged Firewood with a Labeled Volume of 113 L [4ft ³] or Less) has provided different test results when applied in various state inspections. If adopted, this proposal would clarify the test procedure and improve the accuracy of length determinations when determining the volume of wood in bags, bundles and boxes. Improving the test procedures will help ensure that consumers can make value comparisons and reduce unfair competition. Also Item 232-4, NIST Handbook 130, Method of Sale of Sale of Commodities Regulation, Section 2.4. Fireplace and Stove Wood, is being considered for revision to recognize traditional industry labeling practice and eliminate language that appears to conflict with the requirements of the Uniform Packaging and Labeling Regulation.

Authority: 15 U.S.C. 272(b).

Kevin Kimball,
Chief of Staff.

[FR Doc. 2016-16372 Filed 7-11-16; 8:45 am]

BILLING CODE 3510-13-P